DEPARTMENT OF TRANSPORTATION

Office of the Secretary

Notice of Applications for Certificates of Public Convenience and Necessity and Foreign Air Carrier Permits Filed Under Subpart B (formerly Subpart Q) During the Week Ending September 5, 2009

The following Applications for: Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0206.

Date Filed: August 31, 2009.

Due Date for Answers, Conforming Applications, or Motion to Modify Scope: September 21, 2009.

Description: Application of Clairmonte Holdings d/b/a VI Airlink requesting a foreign air carrier permit and exemption authority to engage in charter foreign air transportation of persons, property and mail between points in the British Virgin Islands and the United States.

Docket Number: DOT-OST-2009-0214.

Date Filed: September 3, 2009.

Due Date for Answers, Conforming Applications, or Motion to Modify Scope: September 24, 2009.

Description: Application of Unijet requesting a foreign air carrier permit to enable it to engage in: (i) Foreign charter air transportation of persons and property from any point or points behind any Member State of the European Union via any point or points in any Member State and via intermediate points to any point or points in the United States and beyond; (ii) foreign charter air transportation of persons and property between any point or points in the United States and any point or points in any member of the European Common Aviation Area; (iii) other charters pursuant to the prior approval requirements; and (iv) transportation authorized by any additional route rights made available to European Community carriers in the future. Unijet further requests exemption authority to the extent necessary to enable it to provide the services described above pending issuance of a foreign air carrier permit and such additional or other relief as the Department may deem necessary or appropriate.

Renee V. Wright,
Program Manager, Docket Operations, Federal Register Liaison.

.

[FR Doc. E9-22330 Filed 9-15-09; 8:45 am]

BILLING CODE 4910-9X-P